DEPARTMENT OF DEFENSE

Office of the Secretary

[Docket ID DoD-2013-OS-0157]

Proposed Collection; Comment Request

AGENCY: Transition to Veterans Program Office, Office of the Secretary of Defense for Personnel & Readiness, DoD.

ACTION: Notice.

In compliance with Section 3506(c)(2)(A) of the Paperwork Reduction Act of 1995, the Transition to Veterans Program Office announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 23, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Center for Naval Analyses, ATTN: Mr. Jeffery Peterson, 4825 Mark Center Drive, Alexandria, VA 22311 or call Mr. Jeffery Peterson (703-824-2774) or Dr. Lauren Malone (703-824-2741).

Title; Associated Form; and OMB Number: Veterans' Community Reintegration Focus Groups; OMB Control Number: 0704-TBD.

Needs and Uses: The information collection requirement is necessary to help the Transition to Veterans Program Office identify the particular challenges and issues veterans face in reintegrating with their communities. These focus groups are necessary since there is no single, existing dataset that captures veterans' community reintegration, beyond measuring employment or education. Our findings will help inform the development and implementation of their new transition program, Transition GPS (Goals, Plans, Success).

Affected Public: Individuals and Households.

Annual Burden Hours: 225.

Number of Respondents: 150.

Responses per Respondent: 1.

Average Burden per Response: 90 minutes.

Frequency: One time.

SUPPLEMENTARY INFORMATION:

Summary of Information Collection

In order to populate our focus groups, we will work with veteran organizations, such as the Veterans of Foreign Wars, American Legion, and Student Veterans of America in the metro-DC area, to find participants for our groups. We will ask the organizations to help us gather groups of veterans who are less than two years removed from active duty and who volunteer to participate.

Upon arrival, we will ask the focus group participants to fill out a voluntary intake information sheet that asks for age, gender, race, education level, marital status, number of children, service affiliation, officer vs. enlisted, rank, and length of time since last active duty. At no point will participants be asked to provide their names or any other individual-level information other than what is listed here. The demographic information will only be used to show how our focus group samples compare to the overall demographics of recently transitioned veterans, and will not be linked to any participants' replies. This is essential for determining the comparability of our findings. If, for example, our focus groups were to consist largely of females, we would find it important to caveat the implications of our findings to the overall military, which is largely male. In addition, the new TAP program, Transition GPS, has a goal of diversifying its course offerings to meet the needs of all types of separating veterans, including first-term separations, mid-career separators, and career retirees. These groups are inherently different. First-term separators are the most likely to be immediately reentering the civilian labor market (and thus may be in need of skills training) and to be making use of their GI-Bills. They also have fewer experiences with significant transitions and life changes than their older, more tenured counterparts. Comparing the demographic characteristics of our focus group participants with those of first-term and other separators will allow us to determine if the inputs we receive are likely reflective of the population of transitioning veterans at large, or if they likely represent only specific subsets of the transitioning population.

We will audio tape these discussions so that transcription can occur after the discussions have been conducted. We will be certain that any introductions are made prior to the tape recorder being turned on, should the focus group members want to introduce themselves. Discussion topics will include:

.

• Organizations and social structures

• Community location decision

• Initial intentions after separation

• Reintegration challenges

• Transition Assistance Program (TAP) effect on reintegration

• Community involvement effect

Dated: July 10, 2013.
Aaron Siegel,
Alternate OSD Federal Register Liaison Officer, Department of Defense.

[FR Doc. 2013-17807 Filed 7-23-13; 8:45 am]

BILLING CODE 5001-06-P